DEPARTMENT OF TRANSPORTATION

Maritime Administration

Marine Transportation System National Advisory Council

AGENCY: Department of Transportation, Maritime Administration.

ACTION: Notice of advisory committee charter renewal.

SUMMARY: The Maritime Administration announces the charter renewal for the Marine Transportation System National Advisory Council (MTSNAC). The MTSNAC advises the Secretary of Transportation via the Council Sponsor, the Administrator of the Maritime Administration, on matters relating to the Marine Transportation System (MTS)—waterways, ports and their intermodal connections.

DATES: The effective date of the charter renewal for the MTSNAC is January 27, 2004.

ADDRESSES: You may request a copy of the charter for the Council by writing to Richard Lolich, Maritime Administration, MAR-830, Room 7201, 400 Seventh St., SW., Washington, DC 20590, by calling (202) 366-0704, by faxing (202) 366-6988, or by e-mail: Richard.Lolich@marad.dot.gov.

FOR FURTHER INFORMATION CONTACT: Raymond Barberesi, (202) 366-4357; Maritime Administration, MAR 830, Room 7201, 400 Seventh St., SW., Washington, DC 20590; Raymond.Barberesi@marad.dot.gov.

(Authority: 49 CFR 1.66)

By Order of the Maritime Administrator.
Dated: February 19, 2004.
Joel C. Richard,
Secretary, Maritime Administration.

[FR Doc. 04-3951 Filed 2-23-04; 8:45 am]

BILLING CODE 4910-81-P